DEPARTMENT OF COMMERCE

National Oceanic and Atmospheric Administration

RIN 0648-XF959

Pacific Island Fisheries; Western Pacific Stock Assessment Review; Public Meeting

AGENCY: National Marine Fisheries Service (NMFS), National Oceanic and Atmospheric Administration (NOAA), Commerce.

ACTION: Notice; public meeting.

SUMMARY: NMFS and the Western Pacific Fishery Management Council (Council) will convene a Western Pacific Stock Assessment Review (WPSAR) of the draft 2017 benchmark stock assessments for Guam coral reef fish.

DATES: See SUPPLEMENTARY INFORMATION for meeting dates, times, and daily agenda.

ADDRESSES: The meeting will be held at the Council office, 1164 Bishop St., Suite 1400, Honolulu, HI 96813.

FOR FURTHER INFORMATION CONTACT: Michael Seki, Director, NMFS Pacific Islands Fisheries Science Center (PIFSC), tel 808-725-5360.

SUPPLEMENTARY INFORMATION: PIFSC scientists are conducting stock assessments on exploited Pacific Islands coral reef fish included in the Council's fishery ecosystem plans. These stocks are generally classified as data-poor because they lack reliable, long-term, catch and fishing effort data. Historically, the Council has recommended, and NMFS has approved, setting annual catch limits (ACLs) using a percentile of median historical catch levels and, more recently, a biomass-augmented catch-MSY (maximum sustainable yield) method has been applied.

In an effort to use additional available data sources for these stocks, PIFSC scientists have conducted new coral reef fish assessments using length composition data, abundance data from diver surveys, and certain key population demographic parameters related to growth, maturity, and longevity. PIFSC scientists have been implementing an approach that uses size structure data to obtain an estimate of total and fishing mortality rates for coral reef fish stocks. These rates, combined with population demographic parameters, are used in a numerical population model to obtain stock sustainability metrics (for example, spawning potential ratio, F/FMSY).

Overfishing limits can be generated by using recent total catch estimates and/or population size estimates from diver surveys. Furthermore, a meta-analytical approach using stochastic simulations was developed at PIFSC to obtain demographic parameter estimates for species with even less data than data-poor species (that is, “data-less” species). These scientific methods passed a rigorous independent review by a panel organized by the Center for Independent Experts in 2015. In 2017, these methods were applied to individual species in the main Hawaiian Islands, and now this general approach will be used to assess 20 species from the U.S. territory of Guam. Per WPSAR, there is a need to independently review these species-specific stock assessments prior to submission to a fishery management organization for consideration.

Section 301(a)(2) of the Magnuson-Stevens Fishery Conservation and Management Act (Magnuson-Stevens Act) requires that fishery conservation and management measures be based upon the best scientific information available. Magnuson-Stevens Act Section 302(g)(1)(E) provides that the Secretary of Commerce and each regional fishery management council may establish a peer review process for that Council for scientific information used to advise the Council about the conservation and management of a fishery. Consistent with this provision, the Council, PIFSC, and the NMFS Pacific Islands Regional Office have established the WPSAR process in an effort to improve the quality, timeliness, objectivity, and integrity of stock assessments and other scientific information used in managing Pacific Island fishery resources.

Meeting Agenda for WPSAR Review

The meeting schedule and agenda are as follows (9 a.m.-5 p.m. every day). The agenda order may change and the meeting will run as late as necessary to complete scheduled business.

Monday, February 5, 2018

1. Welcome and introductions

2. Background information—Objectives and terms of reference

3. Fishery operation and management

4. History of stock assessments and reviews

5. Data

a. Guam Division of Aquatic and Wildlife Resources data collection

b. Commercial Fisheries Biosampling Program

c. NMFS Coral Reef Ecosystem Division surveys

d. Biological data

e. Other data

6. Presentation and review of stock assessment

Tuesday, February 6, 2018

7. Continue review of stock assessment

Wednesday, February 7, 2018

8. Continue review of stock assessment

Thursday, February 8, 2018

9. Continue review of stock assessment

10. Public comment period

11. Panel discussions (closed)

Friday, February 9, 2018

12. Panel discussions (closed)

13. Present panel recommendations (afternoon)

14. Adjourn

Special Accommodations

This meeting is physically accessible to people with disabilities. Please direct requests for sign language interpretation or other auxiliary aides to Michael Seki, Director, PIFSC, tel 808-725-5360, fax 808-725-5360), at least 5 days prior to the meeting date.

Authority: 16 U.S.C. 1801 et seq.

Dated: January 12, 2018.
Emily H. Menashes,
Acting Director, Office of Sustainable Fisheries, National Marine Fisheries Service.

[FR Doc. 2018-00786 Filed 1-17-18; 8:45 am]

BILLING CODE 3510-22-P